DEPARTMENT OF ENERGY

Federal Energy Regulatory Commission

[Project No. 12608-000-MA]

Alternatives Unlimited, Inc; Notice of Availability of Environmental Assessment

September 15, 2006.

In accordance with the National Environmental Policy Act of 1969 and the Federal Energy Regulatory Commission's regulations, 18 CFR part 380 (Order No. 486, 52 FR 47879), the Office of Energy Projects has reviewed the application for exemption from licensing for the Alternatives Hydro Power Project, to be located on the Mumford River, in the Town of Northbridge, Worcester County, Massachusetts, and has prepared an Environmental Assessment (EA). In the EA, Commission staff analyze the potential environmental impacts of the project and conclude that exempting the project from licensing, with appropriate environmental measures, would not constitute a major Federal action significantly affecting the quality of the human environment.

A copy of the EA is on file with the Commission and is available for public inspection. The EA may also be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659.

Any comments should be filed within 30 days from the issuance date of this notice, and should be addressed to the Secretary, Federal Energy Regulatory Commission, 888 First Street, NE., Room 1-A, Washington, DC 20426. Please affix “Alternatives Hydro Power Project No. 12608” to all comments. Comments may be filed electronically via Internet in lieu of paper. The Commission strongly encourages electronic filings. See 18 CFR 385.2001(a)(1)(iii) and the instructions on the Commission's Web site under the “eFiling” link. For further information, contact Tom Dean at (202) 502-6041.

Magalie R. Salas,
Secretary.

[FR Doc. E6-15648 Filed 9-21-06; 8:45 am]

BILLING CODE 6717-01-P